DEPARTMENT OF COMMERCE

National Oceanic and Atmospheric Administration

[Docket No. 000927276-2103-03]

RIN 0648-ZA94

Coastal Services Center Broad Area Announcement

AGENCY: National Ocean Service (NOS), National Oceanic and Atmospheric Administration (NOAA), Commerce.

ACTION: Notice of availability of federal assistance.

SUMMARY: The NOAA Coastal Services Center (Center) is soliciting applications for federal assistance for the following program areas: Landscape Characterization and Restoration (LCR), Integration and Development (I&D), Outreach, Coastal Remote Sensing (CRS) and Information Resources (IR). This announcement provides guidelines for these program areas and includes details for the evaluation criteria, and selection procedures of each program. Selected recipients will enter into either a cooperative agreement with the Center or receive a grant depending upon the amount of the Center's involvement in the project. Funding for these programs will be contingent upon availability of FY 2003 funding availability.

DATES: Each program area has specific dates for application and proposal deadlines. Refer directly to that program area description under Supplementary Information listed below.

ADDRESSES: Send all proposals to: NOAA Coastal Services Center, 2234 South Hobson Avenue, Charleston, SC 29405-2413. Landscape Characterization and Restoration (LCR) proposals should be sent to the attention of Jeffery Adkins, Room 238A. Integration and Development (I&D) proposals should be sent to the attention of James Lewis Free, Room 236B. Outreach proposals should be sent to the attention of Jan Kucklick, Room 142. Coastal Remote Sensing (CRS) proposals should be sent to the attention of Kirk Waters, Room 103. Information Resources (IR) proposals should be sent to the attention of Anne Ball, Room 211.

FOR FURTHER INFORMATION: Administrative questions should be directed to Violet Legette, (843)-740-1222 or Violet.Legette@noaa.gov. Technical point of contact for Landscape Characterization and Restoration is Jeffery Adkins, (843)-740-1244 or Jeffery.Adkins@noaa.gov. Technical point of contact for Integration and Development is James Lewis Free, (843)-740-1185 or James.L.Free@noaa.gov. Technical point of contact for Outreach is Jan Kucklick, (843)-740-1279 or Jan.Kucklick@noaa.gov. Technical point of contact for Coastal Remote Sensing is Kirk Waters, (843)-740-1227 or Kirk.Waters@noaa.gov. Technical point of contact for Information Resources is Anne Ball, (843)-740-1229 or Anne.Ball@noaa.gov.

SUPPLEMENTARY INFORMATION: The Center is soliciting applications for federal assistance and funding will be contingent upon availability of FY 2003 funding availability. The following program areas are: Landscape Characterization and Restoration (LCR), Integration and Development (I&D), Outreach, Coastal Remote Sensing (CRS) and Information Resources (IR). This announcement provides guidelines for these program areas and includes details for the evaluation criteria, and selection procedures of each program. Selected recipients will enter into either a cooperative agreement with the Center or receive a grant depending upon the amount of the Center's involvement in the project. Substantial involvement means a cooperative agreement, while independent work requires a grant.

All applicants are required to submit a NOAA grants application package and project proposal. The standard NOAA grants application package (which includes forms SF-424, SF-424A, SF-424B, CD-511, CD-512, and SF-LLL) can be obtained from the NOAA grants Website at <http://www.rdc.noaa.gov/grants/pdf/>. Funding will be subject to the availability of federal appropriations. Applicants are required to prepare separate packages for each proposal submitted.

Authority

Statutory authority for these programs is provided under 16 U.S.C. Sec. 1456 c (Technical Assistance); 15 U.S.C. Sec. 1540 (Cooperative Agreements); 33 U.S.C. Sec. 1442 (research program respecting possible long-range effects of pollution, over fishing, and man-induced changes of ocean ecosystems); 33 U.S.C. Sec. 883a (surveys and other activities); 33 U.S.C. Sec. 883b (dissemination of data); 33 U.S.C. Sec. 883c (geomagnetic data collection, correlation, and dissemination); and 33 U.S.C. Sec. 883d (improvement of methods, instruments, and equipments; investigations and research). CFDA Number: 11.473—NOAA Coastal Services Center.

General Background

Guiding the conservation and management of coastal resources is a primary function of NOAA. NOAA accomplishes this goal through a variety of mechanisms, including collaboration with the coastal resource management programs of the Nation's states and territories. The mission of the NOAA Coastal Services Center is to support the environmental, social, and economic well being of the coast by linking people, information, and technology. The goal of the Center is to build capabilities throughout the nation to address pressing issues of coastal health and change by promoting coastal resource conservation and efficient and sustainable commercial and residential development.

Landscape Characterization and Restoration (LCR)—Environmental Characterization for a United States Estuary, Watershed, or Special Management Area in the Southern United States or the Caribbean

Project Description

The Center seeks proposals for a 2-year cooperative agreement under which a cooperator and the Center will jointly develop a digital information resource for a U.S. estuary, watershed, or special management area in the Southeastern U.S. or the Caribbean, located entirely or in part within North Carolina, South Carolina, Georgia, Florida, Alabama, Mississippi, Louisiana, Texas, the U.S. Virgin Islands, or Puerto Rico. The information resource must focus on one or more resource management needs of the chosen estuary, watershed, or special management area and must emphasize examinations of ecosystem function through the integration of physical, ecological, and socioeconomic information and analyses. The cooperator will choose the management needs that will be focused on: for example, a regional habitat restoration plan, non-point source pollution management plan, long-term dredged material management plan, species recovery plan, or detailed environmental description. The information resource must clearly help managers make resource management, regulatory, or land-use planning decisions. In fact, it is suggested, but not required, that the project result in the creation of an interactive decision support tool. Total anticipated funding for a project is $300,000 over two years and is subject to the availability of FY 2003 and FY 2004 appropriations. No more than two awards are anticipated from this announcement.

Background

This announcement is a call for proposals for work under the Center's Landscape Characterization and Restoration Program. The program's goal is to help Federal, state, and local resource managers include ecosystem processes in their resource management, regulatory, and land-use planning decisions. The program and program partners will work towards this goal by examining interrelationships among ecological, land use, human demographic, and socioeconomic trends and by developing tools needed to reflect those relationships in the development of management practices. The program's principal products are environmental characterizations that integrate the ecological, geophysical, and socioeconomic information and analyses that are required to address the management needs identified by cooperators. Final products are in a digital format and are distributed via CD-ROM and the Internet and include a spatial database, a customized Geographic Information System interface, and an interactive decision support tool. Final products also include a narrative that describes in detail the focal management needs, how the accompanying information was used to examine potential solutions, and how the overall product can be used in future examinations. The program and its cooperators are currently working on, or have completed, characterizations of Otter Island (South Carolina), the ACE Basin (South Carolina), Kachemak Bay (Alaska), Rookery Bay/Belle Meade (Florida), coastal Rhode Island, the central California coast, and northern Puget Sound. Overviews of the program and these projects are available through the Internet at http://www.csc.noaa.gov/lcr/.

Roles and Responsibilities

By working in a cooperative partnership, the unique skills, capabilities, and experiences of the Center and the cooperator will be combined to offer an opportunity for each organization to further its goals. In their proposals, potential cooperators shall explicitly propose the respective roles and responsibilities of the Center and the cooperator. General areas of responsibilities that the Center has had in past projects include: development of spatial models, analyses, and data to address the identified management needs; guidance in the development of socioeconomic information and analyses; design of GIS and HTML architectures; and compilation of final products onto a CD-ROM and Internet site. Any questions about appropriate roles for the Center can be directed to Jeffery.Adkins@noaa.gov. General areas of responsibility that cooperators have had include: identifying the management needs that guide development of the information resource; identifying the information required to address the needs; developing partnerships with other members of the resource management community; developing and collecting the information (text, tables, graphics, charts, and maps) and tools (organizational structure and models) required to address the management needs; developing metadata; and determining how the products should be organized to maximize usefulness within the resource management community.

Project Proposals

The applicant must submit one original and two copies of the proposal(s) by 5 p.m. (Eastern time) on October 4, 2002 to the attention of Jeffery Adkins, Room 238A at the NOAA Coastal Services Center, 2234 South Hobson Avenue, Charleston, SC 29405-2413. In addition to the proposal(s), the applicant must submit a complete NOAA grant application package (with signed originals). No e-mail or fax copies will be accepted. Project proposals must total no more than 10 pages (double spaced, 12-point font, and exclusive of appendices). Appendices should be limited to materials that directly support the main body of the proposal; e.g., support letters, resumes, lists of data sources, maps. All appendix material must be unbound. All proposals must include sections on the seven following topics:

1. Goal(s), Objective(s), and Geographic Area. Identify on a map and describe in the narrative the specific geographic area that will be examined. Identify the specific management objective(s) of the project, describing:

• The management goals that are currently not being achieved,

• How products from this cooperative agreement will significantly address that deficiency, and

• The benefits that will result to the cooperators, partners, public, and resource management community.

2. Background/Introduction. Provide sufficient background information for reviewers to independently assess the local significance and regional importance of the management objectives that will be addressed by the project. Summarize the status of any ongoing efforts by the cooperator and partners to address these objectives.

3. Audience. Identify potential users of the product, how those users will incorporate the product in their management of natural resources, and identify any training that will be needed for users to make full use of the information resource.

4. Project Description/Methodology. Provide a general work plan that:

• Outlines the expected products,

• Divides the project into discrete steps,

• Identifies critical decision points,

• Discusses any obstacles to completing the project that may require special planning,

• And explicitly outlines the respective roles of the cooperator, partners, and Center.

One of the initial tasks of the cooperative agreement will be for the Center and the cooperator to prepare a detailed task plan that explains how the resources of all parties will be leveraged to produce the products. The work plan requested for this part of the proposal should demonstrate that the cooperator and partners have sufficient local knowledge of the management problems to lead an innovative effort directed towards developing appropriate solutions. The product outline should list the major topics (e.g., physical environment, economic trends) and immediate subordinate themes (e.g., geology, industry profile). The outline also should show how any decision support tools proposed are integrated with the other information in the characterization. The outline also should clearly allow reviewers to ascertain the balance between physical, ecological, socioeconomic, and geospatial components of the products. Provide a quality control plan that includes a plan for reviewing the content of the characterization.

5. Project Partners and Support. Identify project partners and describe their respective roles. When formal partnerships already exist, include letters from partners that demonstrate that they understand their role in the project and the authority of the lead agency in product development, and that they are willing to participate in that manner. When formal partnerships do not already exist, describe plans for developing them. Describe the resources the cooperators and partners have for conducting the project, including personnel qualifications (education, experience, and time available to work on the project), facilities, equipment, and, to the extent practicable, the information and tools already available. Describe how widely the project is supported within the resource management community and offer evidence of that support.

6. Milestone Schedule. List target milestones, time lines, and describe how each milestone addresses project objectives. The time period targeted for the award is approximately 24 months, but can vary depending on need. Based on our experience with past projects, we recommend the timeline include three months at the end to work with the Center on final assembly, review, and editing.

7. Project Budget. Provide a detailed budget description that follows the categories and formats in the NOAA grants package and a brief narrative justification of the budget.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Significance (20 points)

• How well the proposal demonstrates the local significance and regional importance of the need(s) or management objective(s) that will guide development of the information resource. At a minimum, the proposal must identify management goals that are not currently being achieved, describe how products from this cooperative agreement will significantly address that deficiency, and state the benefits that will result to the public and resource management community.

2. Technical Approach (20 points)

• How well the proposal divides the project into discrete tasks that make effective use of the technical capabilities of the cooperator, partner(s), and Center. This criterion includes such factors as the technical merit of the process that the cooperator has outlined for developing the information resource and the perceived role for the Center in its development.

3. Comprehensiveness (20 points)

• How well the proposed work will integrate technology; socioeconomic, physical, and ecological information; and public participation to accomplish project goals and objectives. This criterion measures both the scope of the proposed project and the integration of its various components.

4. Outcomes (20 points)

• How well the applicant demonstrates that the project outcomes will significantly address the management issue(s) targeted by the project and that the collective resources of the applicant and partners will ensure projected outcomes are met.

5. Partnerships and Public Involvement (10 points)

• How well the proposal demonstrates through partnerships that the project is broadly supported by the resource management community; that a broad group of resource managers and constituents will benefit from the product(s) and contribute to their design and assembly; and that a broad group of resource managers will use the product(s). This criterion includes such factors as the inclusion of a formal public involvement plan, a plan for managing the partnership team, and letters of support from users and partners.

6. Cost Efficiency (10 points)

• How well the applicant demonstrates that the budget is commensurate with project needs and that the partnerships employed will improve the overall cost effectiveness of the project and value of the products by contributing funds (cost-sharing), expertise, or other resources.

Selection Schedule

Proposals will be reviewed once during the year. The following schedule lists the dates for the project selection and award process for this cooperative agreement: Proposal Deadline (with completed grant package)” October 4, 2002. Earliest Approximate Grant start date “ March 3, 2003. Note: All deadlines are for receipt by close of business (5 p.m. Eastern time) on the dates identified. Receipt of proposal and grant package (with original signatures) will be time stamped. Unsuccessful applications will be destroyed by the Program Manager and not returned to the applicant.

Funding Availability

Specific funding available for awards will be finalized after NOAA funds for FY 2003 are appropriated. Total funding available for this cooperative agreement with the LCR program is anticipated to be $300,000 over 2 years. Two awards are anticipated from this announcement. Publication of this document does not obligate NOAA to fund any specific grant or cooperative agreement or to award all or any part of the available funds.

Cost Sharing

There is no requirement for cost sharing in response to these guidelines, however, proposals that include cost sharing will likely score highly under the evaluation criterion that examines cost efficiency.

Eligibility Criteria

Eligible applicants are institutions of higher education, hospitals, other non-profits, commercial organizations, foreign governments, organizations under the jurisdiction of foreign governments, international organizations, and state, local and Indian tribal governments. Federal agencies or institutions are not eligible to receive Federal assistance under this announcement, but may be project partners.

Note: Federal agencies or institutions who are project partners must demonstrate that they have legal authority to receive funds from outside sources in excess of their appropriation. Because this announcement is not proposing to procure goods or services from applicants, the Economy Act (31 U.S.C. 1535) is not an appropriate legal basis.

Authority

Statutory authority for these programs is provided under 16 U.S.C. 1456c (Technical Assistance); and 33 U.S.C. 1442 (research program respecting possible long-range effects of pollution, overfishing, and man-induced changes of ocean ecosystems).

Integration and Development (I&D)—Applications of Spatial Technology for Coastal Management

Project Description

The Center seeks proposals for a one to two year cooperative agreement under which a cooperator and the Center will jointly develop a technical project related to one of the Center's main theme areas (i.e., smart coastal growth, habitat protection and management, coastal hazards, or Coastal National Spatial Data Infrastructure (NSDI). Projects within the smart coastal growth theme <http://www.csc.noaa.gov/themes/communities/> assist communities in their efforts to incorporate smart growth concepts into their planning and decision-making processes. Habitat related projects <http://www.csc.noaa.gov/themes/habitat> seek to provide coastal managers with information and tools to integrate physical, ecological, economic, and social components into habitat protection and management. Projects within the coastal hazards theme < http://www.csc.noaa.gov/themes/coasthaz/ > focus on reducing the environmental, social, and economic impacts from coastal hazards by providing information and tools that facilitate increased decision-support capabilities for coastal managers. Any of these issues would be well supported by incorporating concepts related to the Coastal NSDI < http://www.csc.noaa.gov/themes/nsdi/ >. The NSDI is a nationwide effort to improve the utilization of geospatial data within the United States, focusing on data acquisition, processing, storage, distribution, ease of use, and inclusion in the decision-making process. NSDI has control of geospatial data. Proposals must relate to the general theme areas as defined above. Applicants are encouraged to focus on a particular issue that is impacting their community and formulate a more efficient or innovative approach toward the management of the issue. All project proposals that meet the topic criteria will be reviewed for technical merit and management relevance.

The goal of the Center's Integration and Development (I&D) program is to provide relevant, easily accessible spatial data, tools, and support services to the coastal resource management community. The program and program partners will work towards this goal by examining the issue, as defined in the project proposal, and working with the impacted community or communities to design and develop a product that addresses local needs and skill sets, while considering its broader applicability to other states or regions.

It is expected that this funding will support agencies and organizations with proven abilities to implement practical solutions on state and local levels. Maximum anticipated funding for Fiscal Year (FY) 2003 is $250,000 for a two-year period and is subject to the availability of FY 2003 appropriations. It is intended that this funding will be distributed among multiple projects in the form of a cooperative agreement. The award level is contingent on methodology, level of detail, and both the technical and geographic scope of the project.

Background

The Center's I&D program's principal products seek to link the technical benefits of geographic information systems (GIS) with the needs of the coastal resource management community to enhance visualization and decision making capabilities. Final products typically are in a digital format and distributed via a training module, CD-ROM, or the Internet. Products often include a spatial database, a customized geographic information system interface, and a narrative that provides a detailed overview of the focal management issues, how the accompanying information was used to examine potential solutions, how the product can be applied to other coastal areas, and how the overall product can be used in future decision-making. An overview of the program, including information on its past and current projects, is available through the Internet at <http://www.csc.noaa.gov/id/>.

This FY 2003 announcement is intended to accommodate a broad range of issues. The program's objective in considering a broad range of issues is to allow individual coastal communities the opportunity to propose projects that speak to the most relevant or urgent issues for their area and to guide discussion relative to the development of innovative approaches for addressing these issues.

Roles and Responsibilities

By establishing a cooperative partnership, the unique skills, capabilities, and experiences of the Center and the cooperator will be combined to offer an opportunity for each organization to further its goals. In order to clearly define the nature of this relationship, the proposal shall explicitly state the respective roles and responsibilities of the Center and the cooperator. Also, the work plan that is outlined within the proposal should demonstrate that the cooperator and partners have sufficient local knowledge of the management problem to devise an effective and systematic approach towards the development of appropriate solutions. Once the award has been made, a primary task for the Center and the cooperator will be to collectively review and develop the final implementation plan to describe how the resources of all parties will be leveraged to produce the final products, the time line for the project, and the process for accomplishing project tasks.

The Center's technical role in past projects has generally included, but is not limited to, the development of spatial tools, analyses, and data to address a variety of management issues; the design of geographic information systems (GIS) and Web-based architectures; and the compilation of final products into a training module, CD-ROM, or Web site. More information regarding the degree of involvement or potential role of the Center in a given project may be found at <http://www.csc.noaa.gov/id/>. Any questions about appropriate roles for the Center can be directed to <James.L.Free@noaa.gov>.

General areas of responsibility that cooperators have had in the past have included the following: identifying the management issues that guide development of the information resource; identifying the information needed to address the issues; developing partnerships with other members of the coastal management community; developing, collecting, and synthesizing the information (e.g., spatial data, text, tables, graphics, charts, and maps) and tools needed to address the management issues; developing metadata; and determining how the products should be organized to maximize usefulness within the coastal management community. It is anticipated the cooperator will participate in the development of the final product design and implementation.

Project Proposals

The applicant must submit one original and two copies of the proposal(s) by 5 p.m. (Eastern time) on October 4, 2002 to the attention of James Lewis Free, Room 236A at the NOAA Coastal Services Center, 2234 South Hobson Avenue, Charleston, SC 29405-2413. In addition to the proposal(s), the applicant must submit a complete NOAA grant application package (with signed originals). No e-mail or fax copies will be accepted. All project proposals must total no more than 10 pages (double spaced, 10 or 12-point fonts, and exclusive of appendices). Appendices should be limited to materials that directly support the main body of the proposal (e.g., support letters, resumes, lists of data sources, maps). Letters of support may be mailed separately, but must be received by the October 4, 2002, deadline. All appendix material must be unbound. All projects proposals must include sections on the five following topics:

1. Project Background/Introduction. Briefly discuss the critical coastal management issue addressed within the proposal, as well as the data and/or analyses required to address this issue. Identify the basic project goals and any objectives. Discuss in the applicability of the issue and anticipated final product to a broader range of customers or areas.

2. Project Description/Methodology. Address the general work plan and deliverables. Methodology should address specific methods to address the defined problem, including a description of the types of technology or software that will be applied. Database format must be adequately described (if appropriate) and include a supplemental descriptor file or metadata that contains the information necessary for completing an FGDC-compliant metadata record for any data that are created or used within the project.

3. Project Partners and Subcontractors. Identify any project partners and describe their respective roles. When formal partnerships already exist, include letters from partners that demonstrate that they understand their role in the project and the authority of the lead agency in product development, and that they are willing to participate in that manner. When formal partnerships do not already exist, describe plans for developing them. Describe the resources available to cooperators and partners to conduct the project, including personnel qualifications (i.e., education, experience, and time available to work on the project), facilities, equipment, and, to the extent practicable, the information and tools already available. Describe how widely the project is supported within the resource management community and offer evidence of that support.

4. Milestone Schedule. List target milestones and their respective time lines.

5. Project Budget. Proposals should provide a detailed budget breakdown that follows the categories and formats in the NOAA grants package and a brief narrative that justifies each item.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Significance (25 points)

• How well the proposal demonstrates the local significance and regional importance of the issue(s) or management objective(s) that will guide development of the project. At a minimum, the proposal must identify management goals that currently are not being achieved, describe how products from this project will significantly address that deficiency, and state the benefits that will result to the public and coastal management community.

2. Technical Approach (20 points)

• How well the proposal divides the project into discrete tasks that make effective use of the technical capabilities of the cooperator, partner(s), and the Center. This criteria includes such factors as the technical merit of the process that the cooperator has outlined for developing the information resource and the perceived role for the Center in its development.

3. Outcomes (20 points)

• How well the applicant demonstrates that the project outcomes will significantly address the management issue(s) targeted by the project and that the collective resources of the applicant and partners will ensure projected outcomes are met.

4. Innovation (15 points)

• How well the proposed work takes an innovative approach to the application and integration of technology, spatial data, and policy to address issues and accomplish project goals and objectives.

5. Partnerships (15 points)

• How well the proposal demonstrates: that the project is broadly supported by the coastal management community; that a broad group of coastal managers and constituent will benefit from contributing to design and assembly of product(s); and that a broad group of coastal managers will use the product(s).

6. Cost Efficiency (5 points)

• Points will be awarded in proportion to the amount of cost sharing proposed. Applicant will have to cost share at least 10 percent of the Federal direct costs proposed to receive 1 point, 20 percent to receive 2 points, 30 percent to receive 3 points, 40 percent to receive 4 points, and 50 percent to receive 5 points.

Selection Schedule

Proposals will be reviewed once during the year. The following schedule lists the dates for the project selection and award process for cooperative agreements: Proposal Deadline (with completed grant package)—October 4, 2002. The review process will take up to three months, and applicants will not be notified of the status of their application until the review process is completed. Earliest Approximate Grant Start Date—March 3, 2003.

Note: All deadlines are for receipt by close of business (5 p.m. Eastern time) on the dates identified. Receipt of proposal and grant package (with original signatures) will be time stamped. Unsuccessful applications will be destroyed by the Program Manager and not returned to the applicant.

Funding Available

Specific funding available for awards will be finalized after NOAA funds for FY 2003 are appropriated. Total funding available for this cooperative agreement with the Integration and Development program is anticipated to be no more than $250,000 and funding will be distributed among multiple projects. Publication of this document does not obligate NOAA to fund any specific grant or cooperative agreement or to award all or any parts of the available funds.

Eligibility Criteria

Eligible applicants are institutions of higher education, hospitals, other non-profits, commercial organizations, foreign governments, organizations under the jurisdiction of foreign governments, international organizations, and state, local and Indian tribal governments. Federal agencies or institutions are not eligible to receive Federal assistance under this announcement, but may be project partners. Note: Federal agencies or institutions who are project partners must demonstrate that they have legal authority to receive funds from outside sources in excess of their appropriation. Because this announcement is not proposing to procure goods or services from applicants, the Economy Act (31 U.S.C. 1535) is not an appropriate legal basis.

Authority

Statutory authority for these programs is 33 U.S.C. 883a (surveys and other activities), 33 U.S.C. 883c (geomagnetic data; collection, correlation, and dissemination) and 16 U.S.C. 1456c (Technical Assistance).

Outreach—Special Projects

Project Description

The Center seeks grant proposals for special technical, management, or planning projects that relate to growth management in coastal areas or human use of coastal resources to organizations across the United States with proven abilities to implement practical solutions at a state and local level. Proposed study topics must relate to growth management in coastal areas or to human use of coastal resources. All project proposals received that meet the topic criteria will be reviewed for technical merit and management relevance.

Background

The Center conducts a variety of projects that directly apply to the state and local coastal management community. The goal of Special Projects is to provide assistance to the local coastal management community for technical or management issues on specific topics relating directly to growth management in coastal areas or human use of coastal resources.

Project Proposals

The applicant must submit one original and two copies of the proposal(s) by 5 p.m. (Eastern time) on October 4, 2002 to the attention of Jan Kucklick, Room 142 at the NOAA Coastal Services Center, 2234 South Hobson Avenue, Charleston, SC 29405-2413. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All project proposals must include sections on the seven following topics:

1. Goals and Objectives. Identify broad project goals and quantifiable objectives.

2. Background/Introduction. State the problem and summarize existing efforts at all levels.

3. Audience. Describe specifics of how the project will contribute to improving or resolving an issue with the primary target audience. The target audience must be explicitly stated.

4. Project Description/Methodology. Describe the specifics of the projects (3 page maximum).

5. Project Partners. Identify project partners and their respective roles.

6. Milestones and Outcomes. List target milestones, Time lines, and desired outcomes in terms of products and services.

7. Project Budget. Provide a detailed budget breakdown that follows the categories and formats in the NOAA grant package and a brief narrative that justifies each item.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Management Relevance (30 points)

• How well does the proposed project (directly or indirectly) address a critical national, regional, state, or local management need relating directly to growth management of coastal areas or human use of coastal resources?

• How well does the project involve partnerships with the state coastal management agency, National Estuarine Research Reserve, and/or National Marine Sanctuary?

• How clearly does the proposed project define the management audience and do the products have clearly defined users?

2. Technical Merit (35 points)

• How technically sound is the approach?

• How well does the proposed project build on existing knowledge?

• How clear and concise are the project goals and objectives?

• How well does the proposed project provide for long-term maintenance or sustainability of products and services?

• How innovative is the approach?

3. Applicability and Effectiveness of Products and Their Delivery (25 points)

• How well does the proposed project produce useful (and easily used) products, services, or an understanding for the target audience and users?

• How likely is the project time line and project design to be flexible and responsive to public and user input?

• Is an evaluation process built into the project? How appropriate is it?

4. Efficiency and Overall Qualifications (10 points)

• How is the budget commensurate with the project needs?

• How capable are the proposers of conducting a project of the scope and scale proposed? (i.e., Are there adequate professional, facility, and administrative capabilities?)

Selection Schedule

Proposals will be reviewed once during the year. The following schedule lists the dates for the project selection and award process for grants and/or cooperative agreements: Proposal Deadline (with completed grant package) October 4, 2002. Earliest Appropriate Grant Start Date—March 3, 2003. Note: All deadlines are for receipt by close of business (5 p.m. Eastern time) on the dates identified. Receipt of proposal and grant package (with original signatures) will be time stamped. Unsuccessful applications will be destroyed by the Program Manager and not returned to the applicant.

Funding Availability

Specific funding available for awards will be finalized after NOAA funds for FY 2003 are appropriated. Anticipated funding in FY 2003 will be between $50,000 and $300,000. Two to six projects will be funded in the $20,000 to $25,000 range for 1 year with the potential for option years (depending on the availability of funds through the federal appropriation process). One or two projects may be considered at annual levels above $25,000 depending on the availability of funds. Publication of this document does not obligate NOAA to fund any specific grant or cooperative agreement or to award all or any part of the available funds.

Cost Sharing

There is no requirement for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this announcement, but may be project partners.

Note: Federal agencies or institutions who are project partners must demonstrate that they have legal authority to receive funds from outside sources in excess of their appropriation. Because this announcement is not proposing to procure goods or services from applicants, the Economy Act (31 U.S.C. 1535) is not an appropriate legal basis.

Authority

Statutory Authority for these programs is provided under 16 U.S.C. 1456C (Technical Assistance).

Outreach—Special Projects for the Pacific Islands

Project Description

The Center seeks grant proposals for special technical, management, or planning projects that directly apply to the goals of the Pacific Island coastal management community to organizations with proven abilities to implement practical solutions in the Pacific Islands at a state and local level. Projects topics should relate to one or more of the four themes of the Coastal Services Center: Habitat, Hazards, Smart Coastal Growth, or Coastal National Spatial Data Infrastructure (CNSDI).

Background

The Center conducts a variety of projects that directly apply to the state and local coastal management community. The goal of this program is to provide assistance to the Pacific Island coastal management community for technical or management issues on a very broad range of topics related to coastal resources and their wise management.

Project Proposal

The applicant must submit one original and two copies of the proposal(s) by 5 p.m. (Eastern time) on October 4, 2002 to the attention of Jan Kucklick, Room 142 at the NOAA Coastal Services Center, 2234 South Hobson Avenue, Charleston, SC 29405-2413. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, and maps. All appendix materials must be unbound. All projects proposals must include sections on the seven following topics:

1. Goals and Objectives. Identify broad project goals and quantifiable objectives.

2. Background/Introduction. State the problem and summarize existing efforts at all levels.

3. Audience. Describe specifics of how the project will contribute to improving or resolving an issue with the primary target audience. The target audience must be explicitly stated.

4. Project Description/Methodology. Describe the specifics of the projects (3 page maximum).

5. Project Partners. Identify project partners and their respective roles.

6. Milestones and Outcomes. List target milestones, time lines, and desired outcomes in terms of products and services.

7. Project Budget. Provide a detailed budget breakdown that follows the categories and formats in the NOAA grant package and a brief narrative that justifies each item.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Management Relevance (30 points)

• How well does the proposed project (directly or indirectly) address a critical national, regional, state, or local management need relating directly to growth management of coastal areas or human use of coastal resources?

• How well does the project involve partnerships with the state coastal management agency, National Estuarine Research Reserve, and/or National Marine Sanctuary?

• How clearly does the proposed project define the management audience and do the products have clearly defined users?

2. Technical Merit (35 points)

• How technically sound is the approach?

• How well does the proposed project build on existing knowledge?

• How clear and concise are the project goals and objectives? Does the proposed project provide for long-term maintenance or sustainability of products and services?

• How innovative is the approach?

3. Applicability and Effectiveness of Products and Their Delivery (25 points)

• How well does the proposed project produce useful (and easily used) products, services, or an understanding for the target audience and users?

• How likely is the project time line and project design to be flexible and responsive to public and user input?

• Is an evaluation process built into the project? How appropriate is it?

4. Efficiency and Overall Qualifications (10 points)

• How is the budget commensurate with the project needs?

• How capable are the proposers of conducting a project of the scope and scale proposed (i.e., Are there adequate professional, facility, and administrative capabilities?)

Selection Schedule

Proposals will be reviewed once during the year. The following schedule lists the dates for the project selection and award process for grants: Proposal Deadline (with completed application package)—October 4, 2002. Earliest Approximate Grant Start Date—March 3, 2003. Note: All deadlines are for receipt by close of business (5 p.m. Eastern time) on the dates identified. Receipt of proposal and grant package (with original signatures) will be time stamped. Unsuccessful applications will be destroyed by the Program Manager and not returned to the applicant.

Funding Availability

Specific funding available for awards will be finalized after NOAA funds for FY 2003 are appropriated. Anticipated funding in FY 2003 will be between $50,000 and $300,000. Projects will be funded in the $25,000 to $75,000 range for 1 year with the potential for options years (depending on the availability of funds through the Federal appropriation process). Up to three projects per year may be considered at annual levels above $75,000 depending on the availability of funds. Publication of this document does not obligate NOAA to fund any specific grant or cooperative agreement or to award all or any part of the available funds.

Cost Sharing

There are no requirements for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this notice, but may be project partners.

Note: Federal agencies or institutions who are project partners must demonstrate that they have legal authority to receive funds from outside sources in excess of their appropriation. Because this announcement is not proposing to procure goods or services from applicants, the Economy Act (31 U.S.C 1535) is not an appropriate legal basis.

Authority

Statutory Authority for these programs is provided under 16 U.S.C. 1456C (Technical Assistance).

Outreach—Technical Assistantship for the Pacific Islands

Project Description

The Center seeks proposals for the development and administration of a two-year cooperative agreement to support post-graduate students working for the Pacific Island coastal zone management programs. This includes those programs in Hawaii, Guam, American Samoa, and the Commonwealth of the Northern Marianas. In FY 2003, the Center expects to award a cooperative agreement to an organization with proven abilities to recruit, select, place and administer assistants working in these four coastal management programs. All project proposals must define how students will be selected and placed, and must include a mechanism to ensure that the skills and expertise of the selected students match the needs and requirements of the Pacific Island coastal zone management program.

This would be a cooperative agreement between the Center and the cooperator for two years (to house one class of assistants) with the option to extend for four years (depending on the availability of funds through the federal appropriations process).

Background

The goal of this program is to provide assistance to the Pacific Island coastal zone management agencies on technical and management issues that directly relate to the agencies' needs and requirements. This program is administratively and programmatically distinct from the NOAA Coastal Management Fellowship program.

Roles and Responsibilities

These projects are intended to be cooperative in nature. The following items identify the minimum project participation expected by the Center and the project applicant. Additional roles and responsibilities should be identified by the applicant.

Coastal Services Center shall have primary responsibility for ensuring that the needs and requirements of the selected Pacific Island coastal zone management agency are being met through this assistantship program.

1. The Coastal Services Center Will:

• Provide information to the applicant on the needs of the Pacific Island Coastal zone management agency prior to the recruiting of the assistants.

• Serve as a reviewer on all student applications to help ensure that the selected students' expertise match with the needs of the Pacific Island coastal zone management programs.

2. The Applicant Shall Have Primary Responsibility for the Following Activities Associated With This Program

• Design process for recruitment and selection

• Announce and select assistants.

• Support and administer assistants. This shall include all activities related to the financial support and administration of the assistants. These activities include arranging for and supporting medical insurance, worker's compensation insurance, state and federal income tax withholdings, and FICA withholdings; coordinating and providing reimbursement for moving expenses, salary disbursement to the assistants; and coordinating and supporting and travel for the assistants.

3. The Coastal Services Center and the Applicant Shall Share Joint Responsibility for the Following Activities Associated With This Program

• Publicize the program—This shall include general announcement and publicity measures to provide general information about the program, specific announcements of the selection processes, and specific announcements of the results of the selection processes. Newsletters, facts sheets, Web sites, and conference poster sessions should all be considered potential publicity mechanisms.

• Solicit other partners—To ensure the continued success and further development of the program, both organizations should consider recruiting other partners to provide financial support and opportunities for future assistants.

Project Proposals

The applicant must submit one original and two copies of the proposal(s) by 5 p.m. (Eastern time) on October 4, 2002 to the attention of Jan Kucklick, Room 142 at the NOAA Coastal Services Center, 2234 South Hobson Avenue, Charleston, SC 29405-2413. In addition to the proposal(s), the applicant must submit a complete NOAA grant application package (with signed originals). No e-mail or fax copies will be accepted. All project proposals must total no more than 10 pages (double spaced, 12-point font, exclusive of appendices). Appendices should be limited to materials that directly support the main body of the proposal; e.g., support letters, resumes, lists of data sources, maps. All appendix material must be unbound. All projects proposals must include sections on the seven following topics:

1. Goals and Objectives. Identify broad project goals and quantifiable objectives.

2. Background/Introduction. State the problem and summarize existing efforts at all levels.

3. Audience. Describe specifics of how the project will contribute to improving or resolving an issue with the primary target audience. The target audience must be explicitly stated.

4. Project Description/Methodology. Describe the specifics of the process for development and administration (4 page maximum).

5. Project Partners—Identify project partners and their respective roles.

6. Milestones and Outcomes. List target milestones, time lines, and desired outcomes in terms of products and services.

7. Project Budget. Proposal should provide a detailed budget breakdown that follows the categories and formats in the NOAA grant package and a brief narrative that justifies each item. Salary, per diem, travel, and benefits of selected students must be included in the budget.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Technical Relevance (70 points)

• How well does the approach identify an effective mechanism for defining how students will be selected and placed?

• How well does the approach identify an effective mechanism for determining where students are placed?

• How well does the approach identify an effective mechanism for ensuring that the skills and expertise of the selected students match the needs and requirements of the selected Pacific Island coastal zone management program?

• Is an evaluation process built into the project? How appropriate is it?

• Will the project involve partnerships with the state coastal management agency, National Estuarine Research Reserve, and/or National Marine Sanctuary?

2. Efficiency and Overall Qualifications (30 points)

• How is the budget commensurate with the project needs? Is it based on existing knowledge?

• How capable are the proposers of conducting a project of the scope and scale proposed? (i.e., Are there adequate professional, facility, and administrative capabilities?)

Selection Schedule

Proposals will be reviewed once during the year. The following schedule lists the dates for the project selection and award process for cooperative agreements: Proposal Deadline (with complete grant package) October 4, 2002. Earliest Approximate Grant Start Date—March 3, 2003.

Note: All deadlines are for receipt by close of business (5 P.m. Eastern time) on the dates identified. Receipt of proposal and grant package (with original signatures) will be time stamped. Unsuccessful applications will be destroyed by the Program Manager and not returned to the applicant.

Funding Available

Specific funding available for awards will be finalized after NOAA funds for FY 2003 and FY 2004 are appropriated. Anticipated funding for this cooperative agreement in FY 2003 will be between $250,000 and $400,000. This will cover one class of assistants for one year. A class of assistants is selected every two years. Applicants must provide out year estimates of budget for up to three additional years (this would cover the selection and placement of a total of 2 classes of assistants). Publication of this document does not obligate NOAA to fund any specific grant or cooperative agreement or to obligate all or any parts of the available funds.

Cost Sharing

There is no requirement for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this notice, but may be project partners. Note: Federal agencies or institutions who are project partners must demonstrate that they have legal authority to receive funds from outside sources in excess of their appropriation. Because this announcement is not proposing to procure goods or services from applicants, the Economy Act (31 U.S.C 1535) is not an appropriate legal basis.

Authority

Statutory Authority for these programs is provided under 16 U.S.C. Sec 1456c (Technical Assistance) and 15 U.S.C. Sec. 1540 (Cooperative Agreements).

Coastal Remote Sensing—Use of Commercial Remote Sensing Products To Solve Coastal Management Issues

Project Description

The Center seeks proposals on applications of remotely sensed coastal spatial data to solve a coastal resource management issue. The proposals are for a 2-year cooperative agreement under which the Center will acquire commercial remote sensing imagery and/or products, and the cooperator and the Center will apply acquired data to the identified issue. The cooperator must show how their management issue will benefit substantially by the inclusion of remotely sensed data. The remote sensing data or products must clearly help managers make resource management, regulatory, or land-use planning decisions. The Center will acquire the remotely sensed data or derived products during the first year of the agreement. The Center is primarily interested in applications of land cover products, topography, and other emerging technologies (e.g. LIDAR, IfSAR, or airborne digital imagery). Both terrestrial and aquatic issues are of interest. The Center shall acquire the remote sensing resources during the first year and the cooperator is expected to make use of the acquired resources during the second year.

Anticipated funding is $10,000 per award over the two year period for support of the cooperative agreement. All funding is subject to the availability of FY 2003 and 2004 appropriations. Between one and five awards are anticipated from this announcement. It is anticipated that approximately $1,500,000 will be spent by the Center on the commercial acquisition of remote sensing data/products during FY03.

This announcement is a call for proposals for work under the Center's Coastal Remote Sensing Program. The program's goal is to help federal, state, and local resource managers use remote sensing to support their decision-making processes. This cooperative agreement will work toward this goal by providing access to remote sensing resources that are otherwise beyond the budget of coastal resource managers.

Background

The Center conducts a variety of projects that directly apply to the state and local coastal resource management community. The goal of the Coastal Remote Sensing (CRS) program is to link coastal resource managers with meaningful data, information and products derived from remote sensing technology. Through partnerships with public and private organizations, CRS strives to deliver high-quality products useful for coastal resource management decision-making.

In FY 2003, the Center expects to award grants and cooperative agreements to organizations across the United States with proven abilities to implement practical solutions at a state and local level. Proposed topics must relate to coastal decision support using remotely sensed information. All project proposals received that meet the topic criteria will be reviewed for technical merit and management relevance.

Roles and Responsibilities

By working in a cooperative partnership, the unique skills, capabilities, and experiences of the Center and the cooperator will be combined to offer an opportunity for each organization to further its goals. In their proposals, potential cooperators shall explicitly propose the respective roles and responsibilities of the Center and the cooperator. Part of the Center's role will be to acquire the remote sensing resources. General areas of responsibilities that the Center can offer include: remote sensing technical expertise; spatial modeling; data visualization; data fusion; and compilation of final products. Any questions about appropriate roles for the Center can be directed to Kirk.Waters@noaa.gov.

Potential general areas of responsibility anticipated for cooperators include: identifying the management issues benefitting from remote sensing resources; identifying the information needed to address the issues; developing partnerships with other members of the coastal management community; developing and collecting the information (text, tables, graphics, charts, and maps) and tools needed to address the management issues; developing metadata; and determining how the products should be organized to maximize usefulness within the coastal management community.

Project Proposals

The applicant must submit one original and two copies of the proposal(s) by 5 p.m. (Eastern time) on October 4, 2002 to the attention of Kirk Waters, Room 103 at the NOAA Coastal Services Center, 2234 South Hobson Avenue, Charleston, SC 29405-2413. In addition to the proposal(s), the applicant must submit a complete NOAA grant application package (with signed originals). No e-mail or fax copies will be accepted. All project proposals must total no more than 10 pages (double spaced, 12-point font, exclusive of appendices). Appendices should be limited to materials that directly support the main body of the proposal; e.g., support letters, resumes, lists of data sources, maps. All appendix material must be unbound. All project proposals must include sections on the seven following topics:

1. Goals and Objectives. Describe specifically how remote sensing data will be used in your decision making process for the management issue.

2. Background/Introduction. Provide background on this problem and some perspective on existing understanding of this issue.

3. Audience. Describe how the results of this project can be implemented at the state coastal resource management level.

4. Project Description/Methodology. Describe the specifics of the project (4-5 page maximum). This must include information regarding the remote sensing data needs (e.g. spatial, temporal, and/or spectral resolution, accuracy required, etc.).

5. Project Partners. Identify project partners and their respective roles.

6. Milestones and Outcomes. List target milestones, time lines, and desired outcomes in terms of products and/or services.

7. Project Budget. Proposal should provide a detailed budget breakdown that follows the categories and formats in the NOAA grant package and a brief narrative that justifies each item. This budget should not include the estimated cost of the remote sensing resources. It is recommended that the proposers do estimate the cost of the remote sensing resources to ensure their proposal is within the scope of this announcement.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Management Relevance (35 points)

• How well does the proposed project (directly or indirectly) address a critical national, regional, state, tribal or local management need that would clearly benefit from remote sensing data?

• How effectively does the project involve state coastal management agency, National Estuarine Research Reserve, or National Marine Sanctuary?

• How clearly does the proposed project define the management audience and do the products have clearly defined users?

2. Technical Merit (30 points)

• How technically sound is the approach?

• How clear and concise are the project goals and objectives?

• How integral are the remote sensing resources in addressing the management issue?

• How well defined and appropriate are the remote sensing data requirements to the management issue?

3. Applicability and Effectiveness of Products and Their Delivery (20 points)

• How useful and accessible will the proposed project's products or services be for the target audience and users?

• Is an evaluation process built into the project? How appropriate is it?

4. Efficiency and Overall Qualifications (10 points)

• How is the budget commensurate with the project needs?

• How capable are the proposers of conducting a project of the scope and scale proposed? (i.e., Are there adequate qualified professional, facility, and administrative capabilities?)

5. Remote Sensing Cost Estimation(5 points)

• How reasonable is the cost estimate of the remote sensing resources required?

• If applicable, are multiple remote sensing methodologies considered?

Selection Schedule

Proposals will be reviewed once during the year. The following schedule lists the dates for the project selection and award process for cooperative agreements: Proposal Deadline (with completed grant package) October 4, 2002. Earliest Appropriate Grant Start Date—March 3, 2003.

Note: All deadlines are for receipt by close of business (5 p.m. Eastern time) on the dates identified. Receipt of proposal and grant package (with original signatures) will be time stamped. Unsuccessful applications will be destroyed by the Program Manager and not returned to the applicant.

Funding Availability

Specific funding available for awards will be finalized after NOAA funds for FY 2003 are appropriated. Anticipated funding is $10,000 per award over a two-year period for support of cooperative agreements. Between one and five awards are anticipated from this announcement. Publication of this document does not obligate NOAA to fund any specific grant or cooperative agreement or to obligate all or any parts of the available funds.

Cost Sharing

There is no requirement for cost sharing in response to this program announcement, however, proposals that include cost sharing approaches will likely score highly under evaluation criteria that examines cost efficiency, especially proposals for cost sharing in the acquisition of the remote sensing resources.

Eligibility Criteria

Eligible applicants are institutions of higher education, other non-profits, commercial organizations, state, local and Indian tribal governments. Federal agencies or institutions are not eligible to receive Federal assistance under this announcement, but may be project partners. Note: Federal agencies or institutions who are project partners must demonstrate that they have legal authority to receive funds from outside sources in excess of their appropriation. Because this announcement is not proposing to procure goods or services from applicants, the Economy Act (31 U.S.C. 1535) is not an appropriate legal basis.

Authority

Statutory Authority for these programs is provided under 16 U.S.C. 1456C (Technical Assistance).

Information Resources (IR)—Coastal Data and Information

Project Description

The Center seeks grant proposals for projects to make coastal data, products, and information available on-line using standard documentation formats and search technologies. Proposals may also include projects concerning the rescue of unique coastal data sets and the conversion to electronic media of coastal data, products, and information. The intent of this program is to increase the numbers of and improve the availability of coastal data and information needed by coastal resource managers and their staffs to accomplish their duties.

Maximum anticipated funding is $200,000 for a one year grant period and is subject to the availability of FY 2003 appropriations. It is intended that this funding will be distributed between multiple projects that take the form of a grant.

Background

The mission of the Center is to support the environmental, social, and economic well being of the coast by linking people, information, and technology. The Information Resources program of the Center helps coastal resource managers and their staff find the data and information necessary to perform their tasks. To accomplish this, the Information Resources program improves access to and increases the availability of coastal data, products, and information. The Center actively supports the use of standards to document and share data, products, and information. In particular, the Center supports the use of the standards accepted by the FGDC and the Library of Congress. By using these standards, virtual networks of coastal data, products, and information can be built that provide crucial input for making coastal management decisions.

Project Proposals

The applicant must submit one original and two copies of the proposal(s) by 5 p.m. (Eastern time) on October 4, 2002 to the attention of Anne Ball, Room 211 at the NOAA Coastal Services Center, 2234 South Hobson Avenue, Charleston, SC 29405-2413. In addition to the proposal(s), the applicant must submit a complete NOAA grants application package (with signed originals). No e-mail or fax copies will be accepted. All project proposals must total no more than 10 pages (double spaced, 12-point font, and exclusive of appendices). Appendices should be limited to materials that directly support the main body of the proposal; e.g. support letters, resumes, lists of data sources, and maps. All appendix material must be unbound. All project proposals must include the sections on the four following topics:

1. Technical Issues

• Project Description. Address how the project will be implemented. It should include an overview of the data, product, or information resource that will be made available on-line and any plans for data rescue or conversion of resources to electronic media. If applicable, it should include plans for the development of a customized interface to FGDC Clearinghouse nodes (servers) and/or library card catalog servers.

• Data and Information Description. Describe the data and/or information that will be made available via the server.

• Server Description. Describe how the resource description (FGDC metadata or USMARC library card catalog entry) and, if applicable, the resource itself will be made available on-line. Include plans for implementing an FGDC Clearinghouse node (server), catalog server, or arrangements for posting the resource description through an existing server.

• Relation to Other Data Projects. If applicable, describe how this project relates to other ongoing programs.

2. Relevance and Scope

• Appropriateness to U.S. Coastal Resource Managers. Describe how the data and/or information might be used by coastal resource managers and/or their staffs. Describe the scope of the project and who it benefits.

• Description of Metadata or Catalog Records Anticipated. Include the number of records anticipated and the level of detail included in the metadata or catalog records.

3. Future Plans

• Post-proposal Plans. Describe plans for maintenance of the data or information resource. For data rescue projects, please include plans for archiving the data.

4. Milestones and Budget

• Milestones. Provide a schedule for the project with milestones.

• Project Budget. Provide a detailed budget breakdown that follows the categories and formats in the NOAA grant package and a brief narrative that justifies each item.

All proposals regarding data and data products must include plans for documenting the data and/or data products using the Federal Geographic Data Committee (FGDC) metadata standard and posting this metadata on a node (server) that is registered at the FGDC Clearinghouse. Further information on the FGDC metadata standard and Clearinghouse architecture can be found on the FGDC Web site at www.fgdc.gov. Proposals may include the development of a customized interface to the FGDC Clearinghouse node (server) for improved access to the data or data product resource.

Proposals that include coastal products and information must include plans for making library card catalog entries searchable through a standard on-line public access catalog, preferably using the Z39.50 protocol. Any new cataloging of information materials (publications, CD-ROMS, videos, etc) must follow the USMARC standard. Consideration will be given to making pre-existing catalog entries that are not in USMARC available on-line. More information on USMARC and Z39.50 may be found on the Library of Congress Web site at www.loc.gov. Proposals may include the development of a customized interface to a Z39.50 catalog server to provide customized search capabilities to the information resource.

Proposals that cover data rescue or the conversion to electronic media of coastal data, products, or information must also include plans for documenting the data, products, and/or information using the appropriate standard mentioned above. In addition, proposals for rescuing data must include plans for archiving the data at an appropriate national data center.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and forwarded to the selecting official. The selecting official (Center Director) will use those scores when he/she makes the final decision. The selecting official may also consider the following program policy factors in making the final selection decision: geographic and institutional balance. As a result, awards may not necessarily be made to the highest ranked applications. Final budget is negotiated after selection is made. Evaluation criteria are:

1. Technical Merit (40 points)

• The proposal will be judged on the technical merit on the plans for development of metadata or new catalog records, how the FGDC Clearinghouse or catalog server will be implemented, and, if applicable, plans for development of additional search interfaces, data rescue, and conversion to electronic media. Proposals which do not directly address how metadata/catalog records will be produced, or how the Clearinghouse/Catalog server will be implemented will be rejected and destroyed by CSC's Program Manager and not returned to the recipient.

2. Relevance and Scope (35 points)

• The proposal will be judged on the importance of the resource to coastal management issues. Priority will be given to those proposals that provide detailed (I level catalog or full FGDC metadata record) versus less detailed (K level catalog or “metalite” record).

3. Future plans (15 points)

• The proposal will be judged on the plans for future maintenance of the descriptive records (metadata or catalog records) and Clearinghouse or catalog server.

4. Milestones and Budget (10 points)

The proposal will be judged on the amount requested versus the technical merit and relevance.

Selection Schedule

Proposals will be reviewed once during the year. The following schedule lists the dates for the project selection and award process for grants: Proposal deadline with completed grant package—October 4, 2002. Earliest approximate grant start date—March 3, 2003. Note: All deadlines are for receipt by close of business (5 p.m. Eastern time) on the dates identified. Receipt of proposal and grant package with original signatures will be time stamped. Unsuccessful applications will be destroyed by the Program Manager and not returned to the applicant.

Funding Availability

Specific funding available for awards will be finalized after NOAA funds for FY 2003 are appropriated. Total funding available for this grant with the Information Resources program is anticipated to be no more than $200,000 and funding will be distributed over multiple projects. Publication of this document does not obligate NOAA to fund any specific grant or cooperative agreement or to award all or any part of the available funds.

Cost Sharing

There is no requirement for cost sharing in response to this program announcement and no additional weight will be given to proposals with cost sharing.

Eligibility Criteria

Eligible applicants are institutions of higher education, hospitals, other non-profits, commercial organizations, foreign governments, organizations under the jurisdiction of foreign governments, international organizations, and state, local and Indian tribal governments. Federal agencies or institutions are not eligible to receive Federal assistance under this announcement, but may be project partners.

Note: Federal agencies or institutions who are project partners must demonstrate that they have legal authority to receive funds from outside sources in excess of their appropriation. Because this announcement is not proposing to procure goods or services from applicants, the Economy Act (31 U.S.C. 1535) is not an appropriate legal basis.

Authority

Statutory authority for these programs is 16 U.S.C. 1456C (Technical Assistance).

General Information for All Programs

The Department of Commerce Pre-Award Notification Requirements for Grants and Cooperative Agreements contained in the Federal Register notice of October 01, 2001 (66 FR 49917), are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp 2d 138 (D.D.C. 2001). This decision is currently on appeal. When the case has been finally resolved, the Department will provide further information on implementation of Executive Order 13202.

Applications under this program are subject to Executive Order 12372, “Intergovernmental Review of Federal Programs.”

It has been determined that this notice does not contain policies with Federalism implications as that term is defined in Executive Order 13132.

The recipients must comply with Executive Order 12906 regarding any and all geospatial data collected or produced under grants or cooperative agreements. This includes documenting all geospatial data in accordance with the Federal Geographic Data Committee Content Standard for digital geospatial data.

Classification

This action has been determined to be not significant for purposes of Executive Order 12866.

Prior notice and an opportunity for public comment are not required by the Administrative Procedure Act (APA) or any other law for this notice concerning grants, cooperative agreements, benefits, and contracts, 5 U.S.C. 553(a)(2). Therefore, a regulatory flexibility analysis is not required for purposes of the Regulatory Flexibility Act (RFA), 5 U.S.C. 601 et. seq. and has not been prepared.

Notwithstanding any other provision of law, no person is required to respond to, nor shall any person be subject to a penalty for failure to comply with, a collection of information subject to the Paperwork Reduction Act, unless that collection displays a currently valid OMB control number. The use of the standard grants application package referred to in this notice involves collection-of-information requirements subject to the Paperwork Reduction Act. The use of Standard Forms 424, 424A, 424B, SF-LLL, and CD-346 have been approved by OMB under the respective Control Numbers 0348-0043, 0348-0044, 0348-0040, 0348-0046, and 0605-0001.

Dated: May 31, 2002.
Alan Neuschatz,
Associate Assistant Administrator for Management, Ocean Services and Coastal Zone Management.

[FR Doc. 02-14256 Filed 6-7-02; 8:45 am]

BILLING CODE 3510-JE-P